DEPARTMENT OF AGRICULTURE

Animal and Plant Health Inspection Service

[Docket No. APHIS-2024-0032]

Notice of Availability of an Environmental Assessment for Release of Bagous nodulosus for Biological Control of Flowering Rush in the Continental United States

AGENCY: Animal and Plant Health Inspection Service, USDA.

ACTION: Notice of availability.

SUMMARY: We are advising the public that the Animal and Plant Health Inspection Service has prepared an environmental assessment relative to permitting the release of the insect, Bagous nodulosus, for the biological control of flowering rush (Butomus umbellatus) in the continental United States. Based on the environmental assessment and other relevant data, we have reached a preliminary determination that the release of this control agent within the continental United States will not have a significant impact on the quality of the human environment. We are making the environmental assessment available to the public for review and comment.

DATES: We will consider all comments that we receive on or before October 3, 2024.

ADDRESSES: You may submit comments by either of the following methods:

• Federal eRulemaking Portal: Go to www.regulations.gov. Enter APHIS-2024-0032 in the Search field. Select the Documents tab, then select the Comment button in the list of documents.

• Postal Mail/Commercial Delivery: Send your comment to Docket No. APHIS-2024-0032, Regulatory Analysis and Development, PPD, APHIS, Station 3A-03.8, 4700 River Road Unit 118, Riverdale, MD 20737-1238.

Supporting documents and any comments we receive on this docket may be viewed at regulations.gov or in our reading room, which is located in room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Dr. Jinbo Wang, Assistant Director, Pests, Pathogens, and Biocontrol Permits, Permitting and Compliance Coordination, PPQ, APHIS, 4700 River Road Unit 133, Riverdale, MD 20737-1238; (301) 851-2327; email: Jinbo.Wang@usda.gov.

SUPPLEMENTARY INFORMATION: The Animal and Plant Health Inspection Service (APHIS) is proposing to issue permits for the release of the insect, Bagous nodulosus, for the biological control of flowering rush (Butomus umbellatus) in the continental United States. The action is proposed to reduce the severity of infestations of flowering rush in the continental United States.

Flowering rush is an herbaceous aquatic perennial in the plant family Butomaceae. Native to Europe and Asia, flowering rush was introduced into North America by 1900, possibly both accidentally in ballast water and packing material and intentionally via the horticulture trade. It is now widely naturalized in wetlands, lakes, ditches, and slow-moving rivers in 23 States and nine provinces surrounding the United States/Canada border and is continuing to expand outward. Flowering rush displaces native plant species, impedes water flow, alters habitat structure and nutrient cycling, damages fishing, hunting, boating, and other recreational sectors, and is difficult to control. In western North America, it provides habitat for highly damaging invasive and nuisance species.

Permitting the release of B. nodulosus in the continental United States is necessary to help control invasive flowering rush. B. nodulosus, a semi-aquatic weevil, is a highly specific and potentially very damaging biological control agent for flowering rush. Both adult and larval feeding of B. nodulosus have been shown to reduce the vigor of flowering rush and this agent attacks flowering rush very early during the field season (adults are active from April onwards) and over a long period of time (larvae can be found feeding in the plants from April to September), which should reduce the ability of the plant to compensate for the attack. Host-specificity testing indicates B. nodulosus is unlikely to attack non-target species.

Flowering rush is very difficult to control. Conventional management strategies are often costly to implement, vary in their effectiveness, and sometimes result in extensive non-target damage. However, flowering rush is an excellent target for biological control because it is a perennial plant growing in stable habitats and because it is the only species in its family, Butomaceae, in North America. Classical biological control is a potentially useful management strategy for an invasive pest species whenever effective resident natural enemies are lacking in the new distribution range.

APHIS' review and analysis of the potential environmental impacts associated with the proposed release are documented in an environmental assessment (EA) titled “Field release of the weevil Bagous nodulosus (Coleoptera: Curculionidae) for classical biological control of flowering rush (Butomaceae) in the continental United States” (May 2024). Based on our findings in the EA, we are proposing to issue permits for the release of the insect, B. nodulosus, as a biological control agent to reduce the severity of infestations of flowering rush. We are making the EA available to the public for review and comment. We will consider all comments that we receive on or before the date listed under the heading DATES at the beginning of this notice.

The EA may be viewed on the regulations.gov website or in our reading room (see ADDRESSES above for a link to regulations.gov and information on the location and hours of the reading room). You may also request paper copies of the EA by calling or writing to the person listed under FOR FURTHER INFORMATION CONTACT. Please refer to the title of the EA when requesting copies.

The EA has been prepared in accordance with: (1) The National Environmental Policy Act of 1969 (NEPA), as amended (42 U.S.C. 4321 et seq.), (2) regulations of the Council on Environmental Quality for implementing the procedural provisions of NEPA (40 CFR parts 1500-1508) in effect as of the date of this notice, (3) USDA regulations implementing NEPA (7 CFR part 1b), and (4) APHIS' NEPA Implementing Procedures (7 CFR part 372).

Done in Washington, DC, this 16th day of August 2024.
Michael Watson,
Administrator, Animal and Plant Health Inspection Service.

[FR Doc. 2024-19639 Filed 8-30-24; 8:45 am]

BILLING CODE 3410-34-P